DEPARTMENT OF THE INTERIOR

Bureau of Indian Affairs

[120A2100DD/AAKC001030/A0A501010.999900 253G; OMB Control Number 1076-0180]

Agency Information Collection Activities; Submission to the Office of Management and Budget for Review and Approval; Leasing of Osage Reservation Lands for Oil and Gas Mining

AGENCY: Bureau of Indian Affairs, Interior.

ACTION: Notice of information collection; request for comment.

SUMMARY: In accordance with the Paperwork Reduction Act of 1995, we, the Bureau of Indian Affairs (BIA) are proposing to renew an information collection.

DATES: Interested persons are invited to submit comments on or before February 28, 2020.

ADDRESSES: Send written comments on this information collection request (ICR) to the Office of Management and Budget's Desk Officer for the Department of the Interior by email at OIRA_Submission@omb.eop.gov; or via facsimile to (202) 395-5806. Please provide a copy of your comments to Ms. Robin Phillips, Osage Agency, P.O. Box 1539, Pawhuska, OK 74056, or by email to robin.phillips@bia.gov. Please reference OMB Control Number 1076-0180 in the subject line of your comments.

FOR FURTHER INFORMATION CONTACT: To request additional information about this ICR, contact Mr. Richard Winlock, Deputy Superintendent, Osage Agency, by email at richard.winlock@bia.gov or by telephone at (918) 287-5700. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 31, 2019 (84 FR 58409). No comments were received.

We are again soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Congress passed legislation specifically addressing oil and gas leasing on Osage lands and requiring Secretarial approval of leases. See 34 Stat. 543, section 3, as amended. The regulations art 25 CFR 226 implement that statute by specifying what information a lessee must provide related to drilling, development, and production of oil and gas on Osage reservation land. The oil, gas, and land are assets that the United States holds in trust or restricted status for Indian beneficiaries. The information collections in 25 CFR 226 are necessary to ensure that the beneficial owners of the mineral rights are provided the royalties due them, ensure that the oil and gas trust assets are protected, and to ensure that the surface estate assets are protected.

Title of Collection: Leasing of Osage Reservation lands for Oil and Gas Mining.

OMB Control Number: 1076-0180.

Form Number: N/A.

Type of Review: Request for extension of a currently approved collection.

Respondents/Affected Public: Individual Indians, businesses, and Tribal authorities.

Total Estimated Number of Annual Respondents: 1,001.

Total Estimated Number of Annual Responses: 48,539.

Estimated Completion Time per Response: Varies from 15 minutes to eight hours.

Total Estimated Number of Annual Burden Hours: 22,731.

Respondent's Obligation: Required to Obtain a Benefit.

Frequency of Collection: Varies from yearly to monthly.

Total Estimated Annual Nonhour Burden Cost: $4,535.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2020-01559 Filed 1-28-20; 8:45 am]

BILLING CODE 4337-15-P